DEPARTMENT OF LABOR

Employment and Training Administration

Proposed Collection; Comment Request

AGENCY: Employment and Training Administration, Labor.

ACTION: Notice.

SUMMARY: The Department of Labor, as part of its continuing effort to reduce paperwork and respondent burden, conducts a preclearance consultation program to provide the general public and Federal agencies with an opportunity to comment on proposed collections of information in accordance with the Paperwork Reduction Act of 1995 (PRA95) (44 U.S.C. 3506(c)(2)(A)). This program helps to ensure that requested data can be provided in the desired format, reporting burden (time and financial resources) is minimized, collection instruments are clearly understood, and the impact of the collection requirements on respondents can be properly assessed. Currently, the Employment and Training Administration is soliciting comments concerning a proposed extension of a currently approved data collection: the Youth Employment Survey (YES). The extension will allow for an analysis of changes in the youth employment and educational attainment rates in the Youth Opportunity areas. The baseline estimates have already been completed under the current OMB approval; the extension of this collection will allow for the completion of the follow-ups.

A copy of the proposed information collection request (ICR) can be obtained by contacting the office listed below in the addressee section of this notice.

DATES: Written comments must be submitted to the office listed in the addressee section below on or before September 27, 2002.

ADDRESSES: Kerri Vitalo, Employment and Training Administration, U.S. Department of Labor, 200 Constitution Ave. NW, Room N-5637, Washington, DC 20210; 202-693-3912 (this is not a toll-free number); kvitalo@doleta.gov; Fax: 202-693-2766 (this is not a toll-free number).

SUPPLEMENTARY INFORMATION:

I. Background

The Youth Opportunity Area (Kulick) Demonstration is an initiative designed to improve the labor market prospects of out-of-school youth in a small number of high poverty areas. Under this demonstration, eleven Opportunity Areas have been created to expand employment, education, and training opportunities for out-of-school youth ages 16-24, with priority given to high school dropouts. Each Opportunity Area consists of an identified target area within a designated empowerment zone or enterprise community with a population between 10,000 and 20,000 persons and a poverty rate among the highest in the community. Grants were awarded starting in 1996, 1997, and 1999. The Opportunity Areas are in the cities of Chicago, Los Angeles, Houston, New York. Boston, Detroit, Denver, Baltimore, Oakland, San Diego, and in Kentucky's Lake County Area Development District. They have been designated incrementally over a three year period.

In February 2000, ETA awarded 36 Youth Opportunity (YO) Grants as Kulick grants' successors to cities, rural areas, and Native American reservations across the nation to attack the problem of persistent unemployment and underemployment among youth in high-poverty urban and rural areas. The YO grants are intended to be the foundation for community-wide efforts to mobilize resources in helping these youth to enter the economic mainstream. The YO grants are a sustained, five-year effort in each community that, in addition to increasing the labor market and educational success of area youth, also are to provide other developmental benefits for program participants. It is expected that communities will supplement the YO grants with other programs funded at the Federal, state, and local levels that are designed to help youth make a successful transition to employment or to post-secondary education or training.

An important part of determining whether these demonstrations and grants are successful is to measure the youth employment rate in the subject areas before the program begins in each area and again after several years of operation. The pre-program estimates for both Kulick and YO grants have already been completed under the current OMB approval; the extension of this collection will allow for the completion of the post-program comparisons in the final five Kulick sites (Detroit, Denver, Baltimore, Oakland, San Diego) and the thirty-six YO sites. The currently approved YES survey is strongly based on the Current Population Survey (OMB Control No. 1220-0100).

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions or responses.

III. Current Actions

Type of Review: Extension.

Agency: Employment and Training Administration.

Title: Youth Employment Survey.

OMB Number: 1205-0373.

Affected Public: Individuals and households.

Estimated Total Burden Hours: See chart below. The total burden to respondents is 19,499 hours—13,345 for the screener and 6,154 for the administration of the questionnaire.

Site | Total respondents: Screener | Total respondents: Questionnaire | Burden (hours): Screener | Burden (hours): Questionnaire
Kulick Site | 12,350 | 3,285 | 1,027 | 820
YO Site | 147,814 | 21,338 | 12,318 | 5,334
Total | 160,050 | 24,623 | 13,345 | 6,154

Total Burden Cost (capital/startup): $0.

Total Burden Cost (operating/maintaining): $0.

Comments submitted in response to this comment request will be summarized and/or included in the request for Office of Management and Budget approval of the information collection request; they will also become a matter of public record.

Dated: July 22, 2002.
Gerard F. Fiala,
Administrator, Office of Policy and Research.

[FR Doc. 02-19098 Filed 7-26-02; 8:45 am]

BILLING CODE 4510-30-P